ENVIRONMENTAL PROTECTION AGENCY

[ER-FRL-9015-9]

Environmental Impact Statements; Notice of Availability

Responsible Agency: Office of Federal Activities, General Information (202) 564-7146 or http://www.epa.gov/compliance/nepa/

Weekly receipt of Environmental Impact Statements

Filed 07/07/2014 Through 07/11/2014

Pursuant to 40 CFR 1506.9.

Notice

Section 309(a) of the Clean Air Act requires that EPA make public its comments on EISs issued by other Federal agencies. EPA's comment letters on EISs are available at: http://www.epa.gov/compliance/nepa/eisdata.html.

EIS No. 20140191, Final EIS, NPS, FL, Gulf Islands National Seashore Final General Management Plan, Review Period Ends: 08/18/2014, Contact: Dan Brown 850-934-2600.

EIS No. 20140192, Second Draft Supplement, FTA, CA, Mid-Coast Corridor Transit Project, Comment, Period Ends: 09/02/2014, Contact: Alexander Smith, 415-744-3133.

EIS No. 20140193, Draft EIS, USACE, CA, West Sacramento Project, Comment Period Ends: 09/02/2014, Contact: Anne Baker 916-969-7868.

EIS No. 20140194, Revised Final EIS, USFS, CA, Harris Vegetation Management, Review Period Ends: 08/25/2014, Contact: Emelia Barnum 530-926-9600.

EIS No. 20140195, Final EIS, CALTRANS, CA, State Route 58 (SR-58) Kramer Junction Expressway, Project, Review Period Ends: 08/18/2014, Contact: Kurt Heidelberg 909-388-7028.

Amended Notices

EIS No. 20140113, Draft EIS, USFWS, MA, Monomoy National Wildlife Refuge Draft Comprehensive Conservation Plan, Comment Period Ends: 10/10/2014, Contact: Libby Herland 978-443-4661. Revision to the FR Notice Published 04/18/2014; Extending the Comment Period from 06/06/2014 to 10/10/2014.

EIS No. 20140151, Draft EIS, USFWS, VA, Chincoteague and Wallops Island National Wildlife Refuges Draft Comprehensive Conservation Plan, Comment Period Ends: 08/15/2014, Contact: Thomas Bonetti 413-253-8307. Revision to the FR Notice Published 05/23/2014; Extending Comment Period from 07/15/2014 to 08/15/2014.

Dated: July 15, 2014.
Cliff Rader,
Director, NEPA Compliance Division, Office of Federal Activities.

[FR Doc. 2014-16926 Filed 7-17-14; 8:45 am]

BILLING CODE 6560-50-P